DEPARTMENT OF DEFENSE

Office of the Secretary

[Transmittal No. 24-91]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-91, Policy Justification, and Sensitivity of Technology.

Dated: November 18, 2025.
Aaron T. Siegel,
Alternate OSD Federal Register Liaison Officer, Department of Defense.

Transmittal No. 24-91

Notice of Proposed Issuance of Letter of Offer Pursuant to Section 36(b)(1) of the Arms Export Control Act, as amended

(i) Prospective Purchaser: Government of Japan

(ii) Total Estimated Value:

Major Defense Equipment * | $3.4 billion
Other | $0.7 billion
TOTAL | $4.1 billion

(iii) Description and Quantity or Quantities of Articles or Services under Consideration for Purchase:

Major Defense Equipment (MDE):

Up to nine (9) KC-46A aircraft

Up to eighteen (18) PW4062 turbofan engines

Up to sixteen (16) AN/ALR-69A radar warning receivers

Up to thirty-three (33) Large Aircraft Infrared Countermeasure (LAIRCM) Guardian Laser Turret Assemblies (GLTAs)

Up to eighteen (18) LAIRCM system processor replacements

Non-Major Defense Equipment:

The following non-MDE items will also be included: missile warning sensors; Cartridge Actuated Devices and Propellent Actuated Devices (CAD/PADs); control interface units; User Data Module (UDM) cards; electronic warfare database support; KIV-77 crypto modules; KY-100 crypto terminals; AN/PYQ-10 Simple Key Loaders (SKL); AN/APX-119 Identification Friend or Foe (IFF) transponders; communications equipment; Computer Program Identification Numbers (CPINS); integration and test support and equipment; aircraft components, parts, and accessories; support and support equipment; spare parts, consumables and accessories, and repair and return support; training aids, devices, and spare parts; minor modifications and maintenance support; instruments and lab equipment; classified and unclassified software delivery and support; facilities and construction support; unclassified publications and technical documentation; personnel training and training equipment; jet fuel; transportation and airlift support; warranties; studies and surveys; United States (U.S.) Government and contractor engineering, technical, and logistics support services; and other related elements of logistics and program support.

(iv) Military Department: Air Force (JA-D-SAP)

(v) Prior Related Cases; if any: JA-D-SAJ

(vi) Sales Commission; Fee; etc.; Paid; Offered; or Agreed to be Paid: None known at this time

(vii) Sensitivity of Technology Contained in the Defense Article or Defense Services Proposed to be Sold: See Attached Annex

(viii) Date Report Delivered to Congress: September 13, 2024

* as defined in Section 47(6) of the Arms Export Control Act.

POLICY JUSTIFICATION

Japan—KC-46A Aerial Refueling Aircraft

The Government of Japan has requested to buy up to nine (9) KC-46A aircraft; up to eighteen (18) PW4062 turbofan engines; up to sixteen (16) AN/ALR-69A radar warning receivers (RWRs); up to thirty-three (33) Large Aircraft Infrared Countermeasure (LAIRCM) Guardian Laser Turret Assemblies (GLTAs); and up to eighteen (18) LAIRCM system processor replacements. The following non-MDE items will also be included: missile warning sensors; Cartridge Actuated Devices and Propellent Actuated Devices (CAD/PADs); control interface units; User Data Module (UDM) cards; electronic warfare database support; KIV-77 crypto modules; KY-100 crypto terminals; AN/PYQ-10 Simple Key Loaders (SKL); AN/APX-119 Identification Friend or Foe (IFF) transponders; communications equipment; Computer Program Identification Numbers (CPINS); integration and test support and equipment; aircraft components, parts, and accessories; support and support equipment; spare parts, consumables and accessories, and repair and return support; training aids, devices, and spare parts; minor modifications and maintenance support; instruments and lab equipment; classified and unclassified software delivery and support; facilities and construction support; unclassified publications and technical documentation; personnel training and training equipment; jet fuel; transportation and airlift support; warranties; studies and surveys; U.S. Government and contractor engineering, technical, and logistics support services; and other related elements of logistics and program support. The estimated total cost is $4.1 billion.

This proposed sale will support the foreign policy goals and national security objectives of the

U.S. by improving the security of a major ally that is a force for political stability and economic progress in the Indo-Pacific region.

The proposed sale will improve Japan's aerial refueling capability and passenger transport operations, which will contribute to enhanced deterrence of current and future threats in the region. Japan already has KC-46A aircraft tankers in its inventory and will have no difficulty absorbing these articles into its armed forces.

The proposed sale of this equipment and support will not alter the basic military balance in the region.

The principal contractors will be Boeing Corporation, located in Everett, WA; Pratt & Whitney Military Engines, located in East Hartford, CT; RTX Corporation, located in Goleta, CA; and Northrop Grumman Corporation, located in Rolling Meadows, IL. There are no known offset agreements proposed in connection with this potential sale.

Implementation of this proposed sale will not require the assignment of any additional U.S. Government or contractor representatives to Japan.

There will be no adverse impact on U.S. defense readiness as a result of this proposed sale.

[FR Doc. 2025-20506 Filed 11-20-25; 8:45 am]

BILLING CODE 6001-FR-P